DEPARTMENT OF DEFENSE

Office of the Secretary

[Docket ID DoD-2013-OS-0032]

Privacy Act of 1974; System of Records

AGENCY: Office of the Secretary, DoD.

ACTION: Notice to alter a System of Records.

SUMMARY: The Defense Logistics Agency proposes to alter a system of records in its inventory of record systems subject to the Privacy Act of 1974 (5 U.S.C. 552a), as amended.

DATES: This proposed action will be effective on April 5, 2013 unless comments are received which result in a contrary determination April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA/FOIA/Privacy Act Office, Headquarters, Defense Logistics Agency, ATTN: DGA, 8725 John J. Kingman Road, Suite 1644, Fort Belvoir, VA 22060-6221, or by phone at (703) 767-5045.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on February 20, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2013.
Aaron Siegel,
Alternate OSD Federal Register Liaison Officer, Department of Defense.

S170.04

System name:

Fraud and Irregularities (July 14, 2008; 73 FR 40304).

Changes:

* * * * *

System name:

Delete entry and replace with “Debarment and Suspension Files.”

* * * * *

Authority for maintenance of the system:

Delete entry and replace with “10 U.S.C. 136, Under Secretary of Defense for Personnel and Readiness; 10 U.S.C. 133, Under Secretary of Defense for Acquisition, Technology, and Logistics; Pub.L. 95-521, Ethics in Government Act; and DoD Directive 7050.5, Coordination of Remedies for Fraud and Corruption Related to Procurement Activities.”

Purpose(s):

Delete entry and replace with “Information is used in the investigation and prosecution of criminal or civil actions involving fraud, criminal conduct and antitrust violations and is used in determinations to suspend or debar any individual or group of individuals or other entities from DLA procurement and sales.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

Upon request, contractor suspension and debarment information may be disclosed to other Federal, state, and local agencies and with private industry for the purpose of identifying those contractors that have provided non-conforming parts and/or have performed poorly on contracts.

In response to inquiries concerning DLA's entries into the General Services Administration (GSA) maintained System for Award Management (SAM), DLA may confirm the identity of the individual or other entities listed in SAM.

The DoD Blanket Routine Uses may also apply to this system of records.”

* * * * *

Retrievability:

Delete from entry “or other entity”.

Safeguards:

Delete entry and replace with “Physical access to building is protected by uniformed security officers and requires a Common Access Card (CAC) for entry. Records, as well as computer terminals, are maintained in areas accessible only to authorized DLA personnel and are password protected. All who have access to the records are to have taken annual Information Assurance and Privacy training.”

* * * * *

System manager(s) and address:

Replace last word with “Activity.”

Notification procedure:

Delete entry and replace with “Individuals seeking to determine whether information about themselves is contained in this system should address written inquiries to the DLA FOIA/Privacy Act Office, Headquarters, Defense Logistics Agency, ATTN: DGA, 8725 John J. Kingman Road, Suite 1644, Fort Belvoir, VA 22060-6221.

Inquiry should contain the record subject's full name, home address and telephone number.”

Record access procedures:

Delete entry and replace with “Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the record subject's full name, home address and telephone number.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

Record source categories:

Delete entry and replace with “Federal, state and local investigative agencies; other federal agencies; DLA employees; and the subject of the record.”

* * * * *

[FR Doc. 2013-05048 Filed 3-4-13; 8:45 am]

BILLING CODE 5001-06-P